FEDERAL COMMUNICATIONS COMMISSION

47 CFR Part 73

[DA 15-805; MB Docket No. 15-167; RM-11751]

Radio Broadcasting Services; Grant, Oklahoma

AGENCY: Federal Communications Commission.

ACTION: Proposed rule.

SUMMARY: This document proposes, at the request of Katherine Pyeatt (“Pyeatt”), the allotment of FM Channel 286A at Grant, Oklahoma. The document also treats a conflicting application (File No. BPH-20141028AAK) filed by Liberman Broadcasting of Dallas Licensee LLC (“Liberman”), licensee of Station KZMP-FM, Pilot Point, Texas, for a construction permit to implement a previously granted upgrade in KZMP's channel class from Channel 285C1 to 285C0 (“Pilot Point Application”) as a counterproposal. Finally, to accommodate Pyeatt's proposal, an Order to Show Cause is issued to Liberman as to why KZMP's channel class should not be involuntarily downgraded. See SUPPLEMENTARY INFORMATION, supra.

DATES: Comments must be filed on or before August 31, 2015, and reply comments on or before September 15, 2015.

ADDRESSES: Secretary, Federal Communications Commission, 445 Twelfth Street SW., Washington, DC 20554. In addition to filing comments with the FCC, interested parties should serve the rule making petitioner and the counter proponent as follows: Katherine Pyeatt, 2215 Cedar Springs Rd., #1605, Dallas, Texas 75201; James R. Bayes, Esq., Mark N. Lipp, Esq., and Marnie K. Sarver, Esq., Wiley Rein LLP, 1776 K Street NW., Washington, DC 20006 (Counsel to Liberman).

FOR FURTHER INFORMATION CONTACT: Andrew J. Rhodes, Media Bureau, (202) 418-2700.

SUPPLEMENTARY INFORMATION: This is a synopsis of the Commission's Notice of Proposed Rule Making (“NPRM”) and Order to Show Cause (“OSC”), MB Docket No. 15-167, adopted July 9, 2015, and released July 10, 2015. The full text of this Commission decision is available for inspection and copying during normal business hours in the FCC's Reference Information Center at Portals II, CY-A257, 445 Twelfth Street SW., Washington, DC 20554. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

The document solicits comment on the proposed allotment of Channel 286A at Grant (population 289) because it could result in a first local service to that community. The proposed reference coordinates for Channel 286A at Grant are 33-57-16 NL and 95-36-30 WL. The NPRM also addresses Liberman's concerns regarding the credibility of Pyeatt's expression of interest in the proposed Grant allotment.

Next, the OSC proposes the involuntary downgrade of KZMP, Pilot Point, Texas, from Channel 285C0 to 285C1 because nearly seven years have passed since KZMP was upgraded and Liberman has not implemented the upgrade.

Finally, the NPRM also states that the public interest would be served by considering the Pilot Point Application because it could result in the provision of service to an additional 1,507,667 people and treating it as a counterproposal to Pyeatt's Petition for Rule Making. Both Pyeatt and Liberman are invited to submit comments, seeking to demonstrate why their proposals better serve the public interest under the FM Allotment Priorities. The Pilot Point Application reference coordinates are 33-32-14 NL and 96-49-54 WL.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

Federal Communications Commission.
Nazifa Sawez,
Assistant Chief, Audio Division, Media Bureau.

For the reasons discussed in the preamble, the Federal Communications Commission proposes to amend 47 CFR part 73 as follows:

PART 73—RADIO BROADCAST SERVICES

1. The authority citation for part 73 continues to read as follows:

Authority: 47 U.S.C. 154, 303, 334, 336 and 339.

§ 73.202 [Amended]

2. Section 73.202(b), the Table of FM Allotments under Oklahoma, is amended by adding Grant, Channel 286A.

[FR Doc. 2015-18985 Filed 7-31-15; 8:45 am]

BILLING CODE 6712-01-P